DEPARTMENT OF TRANSPORTATION

Federal Aviation Administration

14 CFR Part 39

[Docket No. FAA-2004-19443; Directorate Identifier 2004-CE-32-AD]

RIN 2120-AA64

Airworthiness Directives; EXTRA Flugzeugbau GmbH Model EA-300 and EA-300/S Airplanes

AGENCY: Federal Aviation Administration (FAA), DOT.

ACTION: Notice of proposed rulemaking (NPRM).

SUMMARY: The FAA proposes to supersede Airworthiness Directive (AD) 98-03-14, which applies to certain EXTRA Flugzeugbau GmbH (EXTRA) Model EA-300 and EA-300/S airplanes. AD 98-03-14 currently requires you to inspect the upper longeron cutout-bridge for cracks, repairing any cracks found, and modifying this area. This proposed AD would retain the actions of AD 98-03-14 and incorporate new service information. For owner/operators of the affected airplanes that were able to do the modification required in AD 98-03-14, no further action would be required. This proposed AD results from mandatory continuing airworthiness information (MCAI) issued by the airworthiness authority for Germany. We are issuing this proposed AD to detect and correct cracks in the upper longeron cutout-bridge, which could cause the upper longeron cutout-bridge to fail resulting in structural damage to the fuselage. This condition could lead to loss of control of the airplane.

DATES: We must receive any comments on this proposed AD by December 15, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Extra Flugzeubau GmbH, Flugplatz Dinslaken, D-46569 Hünxe, Germany.

To view the comments to this proposed AD, go to http://dms.dot.gov. The docket number is FAA-2004-19443.

FOR FURTHER INFORMATION CONTACT: Karl Schletzbaum, Aerospace Engineer, Small Airplane Directorate, 901 Locust, Room 301, Kansas City, MO 64106; telephone: (816) 329-4146; facsimile: (816) 329-4090.

SUPPLEMENTARY INFORMATION:

Comments Invited

How do I comment on this proposed AD? We invite you to submit any written relevant data, views, or arguments regarding this proposal. Send your comments to an address listed under ADDRESSES. Include the docket number, “FAA-2004-19443; Directorate Identifier 2004-CE-32-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19443. You may review the DOT's complete Privacy Act Statement in the Federal Register published on April 11, 2000 (65 FR 19477-78), or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? The Luftfahart-Bundesamt (LBA), which is the airworthiness authority for Germany, notified us that life cycle testing of the upper longeron cutout-bridge revealed potential cracks. This condition caused us to issue AD 98-03-14, Amendment 39-10307 (63 FR 5881, February 5, 1998). AD 98-03-14 currently requires you to do the following for certain EXTRA Model EA-300 and EA-300/S airplanes:

• Inspect the upper longeron cutout-bridge for cracks;

• Repair any cracks you find; and

• Modify this area.

You were required to do these actions following EXTRA Service Bulletin EA-300 & EA-300/S, Doc: SB-300-3-93, Issue: A, Date: January 12, 1994.

What has happened since AD 98-03-14 to initiate this proposed action? LBA notified FAA of the need to change AD 98-03-14. The LBA reports that not all affected airplanes could have the required modification done following EXTRA Service Bulletin EA-300 & EA-300/S, Doc: SB-300-3-93, Issue: A, Date: January 12, 1994.

Installing the new steel sleeves may cause distortion to the upper longeron bridge cutout and the fuselage. The distortion may cause misalignment of the steel sleeves fore and aft of the cutouts.

This caused EXTRA to issue a new service bulletin. The new service bulletin includes additional procedures for modifying the upper longeron cutout-bridge. If you modify the upper longeron bridge-cutout following Procedure II, the new service bulletin specifies replacing the new bridges every 1,000 hours time-in-service (TIS).

What is the potential impact if FAA took no action? If not detected and corrected, cracks in the upper longeron cutout-bridge could cause the upper longeron cutout-bridge to fail, which could result in structural damage to the fuselage. This failure could lead to loss of control of the airplane.

Is there service information that applies to this subject? EXTRA has issued Service Bulletin EA-300 & EA-300/S Doc: SB-300-3-93, Issue: B, Date: June 10, 1998.

What are the provisions of this service information? The service bulletin includes procedures for:

• Inspecting the upper longeron cutout-bridge for cracks;

• Repairing any cracks found in the upper longeron cutout-bridge;

• Modifying the upper longeron cutout-bridge using Procedure I or Procedure II; and

• If Procedure II was used, replacing the new bridges every 1,000 hours TIS.

What action did the LBA take? The LBA classified this service bulletin as mandatory and issued German AD Number D-1994-043R1, dated May 17, 2004, to ensure the continued airworthiness of these airplanes in Germany.

Did the LBA inform the United States under the bilateral airworthiness agreement? These EXTRA Model EA-300 and EA-300/S airplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other EXTRA Model EA-300 and EA-300/S airplanes of the same type design that are registered in the United States, we are proposing AD action. The proposed AD is to detect and correct cracks in the upper longeron cutout-bridge, which could result in structural damage to the fuselage. This failure could lead to loss of control of the airplane.

What would this proposed AD require? This proposed AD would supersede 98-03-14 with a new AD that would retain the actions required in AD 98-03-14 and incorporate new service information.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 54 airplanes in the U.S. registry.

What would be the cost impact of this proposed AD on owners/operators of the affected airplanes? We estimate the following costs to do the proposed inspection:

Labor cost | Parts cost | Total cost per airplane | Total cost on U.S. operators
3 workhours × $65 per hour = $195 | Not applicable | $195 | $195 × $54 = $10,530.

We estimate the following costs to do any necessary repairs that would be required based on the results of this proposed inspection. We have no way of determining the number of airplanes that may need this repair:

Labor cost | Parts cost | Total cost per airplane
10 workhours × $65 per hour = $650 | $200 | $650 + $200 = $850.

What is the difference between the cost impact of this proposed AD and the cost impact of AD 98-03-14? The difference between the cost impact of AD 98-03-14 and this proposed AD is the proposed replacement of the new bridges every 1,000 hours TIS if the upper longeron bridge-cutout is modified following Procedure II of the new service bulletin.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-32-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-03-14, Amendment 39-10307 (63 FR 5881, February 5, 1998), and by adding a new AD to read as follows:

EXTRA Flugzeugbau GmbH: Docket No. FAA-2004-19443; Directorate Identifier 2004-CE-32-AD; Supersedes AD 98-03-14, Amendment 39-10307.

When Is the Last Date I Can Submit Comments on This Proposed AD?

(a) We must receive comments on this proposed airworthiness directive (AD) by December 15, 2004.

What Other ADs Are Affected by This Action?

(b) This AD supersedes AD 98-03-14, Amendment 39-10307.

What Airplanes Are Affected by This AD?

(c) This AD affects the following airplane models and serial numbers that:

(i) are certificated in any category; and

(ii) have not had the left-hand (LH) and right-hand (RH) upper longeron bridge-cutouts inspected and modified following EXTRA Service Bulletin EA-300 & EA-300/S Doc: SB-300-3-93, Issue: A, Date: January 12, 1994.

Model | Serial numbers
EA-300 | V1 and 01 through 50.
EA-300/S | 1 through 17.

What Is the Unsafe Condition Presented in This AD?

(d) This AD is the result of mandatory continuing airworthiness information (MCAI) issued by the airworthiness authority for Germany. The actions specified in this AD are intended to detect and correct cracks in the upper longeron cutout-bridge, which could cause the upper longeron cutout-bridge to fail resulting in structural damage to the fuselage. This condition could lead to loss of control of the airplane.

What Must I Do To Address This Problem?

(e) To address this problem, you must do the following:

Actions | Compliance | Procedures
(1) Inspect the LH and RH upper longeron cutout-bridge, part number (P/N) PC-23102.1X) for cracks | Upon accumulating 1,000 hours time-in-service (TIS) on the upper longeron or within the next 100 hours TIS after March 16, 1998 (the effective date of AD 98-03-14), whichever occurs later, unless already done | Follow EXTRA Service Bulletin EA-300 & EA-300/S Doc: SB-300-3-93, Issue: A, Date: January 12, 1994; or EXTRA Service Bulletin EA-300 & EA-300/S Doc: SB-300-3-93, Issue: B, Date: June 10, 1998.
(2) If you find any cracks in the upper longeron cutout-bridged during the inspection required in paragraph (e)(1) of this AD, do the following: (i) Repair any cracks; and (ii) Modify the upper longeron cutout-bridge. | Before further flight after the inspection required in paragraph (e)(1) of this AD, unless already done | Follow EXTRA Service Bulletin EA-300 & EA-300/S Doc: SB-300-3-93, Issue: A, Date: January 12, 1994; or EXTRA Service Bulletin EA-300 & EA-300/S Doc: SB-300-3-93, Issue: B, Date: June 10, 1998.
(3) If you do not find any cracks in the upper longeron cutout-bridge during the inspection required in paragraph (e)(1) of this AD, you must still modify the upper longeron cutout-bridge | Before further flight after the inspection required in paragraph (e)(1) of this AD, unless already done | Follow EXTRA Service Bulletin EA-300 & EA-300/S Doc: SB-300-3-93, Issue: A, Date: January 12, 1994; or EXTRA Service Bulletin EA-300 & EA-300/S Doc: SB-300-3-93, Issue: B, Date: June 10, 1998.
(4) If you modified the upper longeron cutout-bridge following EXTRA Service Bulletin EA-300 & EA-300/S Doc: SB-300-3-93, Issue: A, Date: January 12, 1994, or EXTRA Service Bulletin EA-300 & EA-300/S Doc: SB-300-3-93, Issue: B, Date: June 10, 1998, Procedure I, you do not need to do any further actions. | As of the effective date of this AD | As stated in EXTRA Service Bulletin EA-300 & EA-300/S Doc: SB-300-3-93, Issue: A, Date: January 12, 1994, or EXTRA Service Bulletin EA-300 & EA-300/S Doc: SB-300-3-93, Issue: B, Date: June 10, 1998.
(5) If you modified the upper longeron cutout-bridge following Procedure II of EXTRA Service Bulletin EA-300 & EA-300/S Doc: SB-300-3-93, Issue: B, Date: June 10, 1998, you must replace the new internal bridges every 1,000 hours TIS | As of the effective date of this Ad | As stated EXTRA Service Bulletin EA-300 & EA-300/S Doc: SB-300-3-93, Issue: A, Date: January 12, 1994; or EXTRA Service Bulletin EA-300 & EA-300/S Doc: SB-300-3-93, Issue: B, Date: June 10, 1998.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, 901 Locust, Room 301, Kansas City, MO 64106; telephone: (816) 329-4146; facsimile: (816) 329-4090.

Is There Other Information That Relates to This Subject?

(g) German AD Number D-1994-043R1, dated May 17, 2004, also addresses the subject of this AD.

May I Get Copies of the Documents Referenced in This AD?

(h) To get copies of the documents referenced in this AD, contact Extra Flugzeubau GmbH, Flugplatz Dinslaken, D-46569 Hünxe, Germany. To view the AD docket, go to the Docket Management Facility; U.S. Department of Transportation, 400 Seventh Street, SW., Nassif Building, Room PL-401, Washington, DC, or on the Internet at http://dms.dot.gov. This is docket number FAA-2004-19443.

Issued in Kansas City, Missouri, on November 5, 2004.
James E. Jackson,
Acting Manager, Small Airplane Directorate, Aircraft Certification Service.

[FR Doc. 04-25193 Filed 11-10-04; 8:45 am]

BILLING CODE 4910-13-P